ENVIRONMENTAL PROTECTION AGENCY

[EPA-HQ-ORD-2016-0010; FRL-9946-92-ORD]

Proposed Information Collection Request; Comment Request; Recordkeeping for Institutional Dual Use Research of Concern (iDURC) Policy Compliance

AGENCY: Environmental Protection Agency (EPA).

ACTION: Notice.

SUMMARY: The Environmental Protection Agency (EPA) is planning to submit an information collection request (ICR), “Recordkeeping for Institutional Dual Use Research of Concern (iDURC) Policy Compliance” (EPA ICR No. 2530.02, OMB Control No. 2080-0082) to the Office of Management and Budget (OMB) for review and approval in accordance with the Paperwork Reduction Act (PRA) (44 U.S.C. 3501 et seq.). Before doing so, EPA is soliciting public comments on specific aspects of the proposed information collection as described below. This is a proposed extension of the ICR, which is currently approved through September 30, 2016. An Agency may not conduct or sponsor and a person is not required to respond to a collection of information unless it displays a currently valid OMB control number.

DATES: Comments must be submitted on or before July 25, 2016.

ADDRESSES: Submit your comments, referencing Docket ID No. EPA-HQ-ORD-2016-0010, online using www.regulations.gov (our preferred method), by email to ord.docket@epa.gov, or by mail to: EPA Docket Center, Environmental Protection Agency, Mail Code 28221T, 1200 Pennsylvania Ave. NW., Washington, DC 20460.

EPA's policy is that all comments received will be included in the public docket without change including any personal information provided, unless the comment includes profanity, threats, information claimed to be Confidential Business Information (CBI) or other information whose disclosure is restricted by statute.

FOR FURTHER INFORMATION CONTACT: Brendan Doyle, Office of Research and Development, Mail Code: 8801R, Environmental Protection Agency, 1200 Pennsylvania Ave. NW., Washington, DC 20460; telephone number: 202-564-4584; email address: doyle.brendan@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Pursuant to section 3506(c)(2)(A) of the PRA, EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract: To comply with the U.S. Government Policy for Institutional Oversight of Life Sciences Dual Use Research of Concern (DURC Policy) (www.phe.gov/s3/dualuse/Pages/default.aspx), EPA must ensure that the institutions that are subject to the DURC Policy appropriately train their laboratory personnel and maintain records of their training. This training is specific to “dual use research of concern,” and should include information on how to properly identify DURC and appropriate methods for ensuring research that is determined to be DURC is conducted and communicated responsibly.

Form Numbers: None.

Respondents/affected entities: Private sector and the federal-owned/contractor-operated labs.

Respondent's obligation to respond: Mandatory (per EPA Order 1000.19: Policy and Procedures for Managing Dual Use Research of Concern).

Estimated number of respondents: Eighteen (total).

Frequency of response: Only once and/or as necessary.

Total estimated burden: 72 hours (per year) over three years. Burden is defined at 5 CFR 1320.03(b)

Total estimated cost: $4320 (per year over three years), includes $0 annualized capital or operation & maintenance costs.

Changes in Estimates: There is no increase nor decrease of hours in the total estimated respondent burden compared with the ICR currently approved by OMB. The burden is expected to stay the same due to the same number of estimated respondents and research projects.

Dated: May 17, 2016.
Gregory D. Sayles,
Acting Director, National Homeland Security Research Center.

[FR Doc. 2016-12488 Filed 5-25-16; 8:45 am]

BILLING CODE 6560-50-P